DEPARTMENT OF THE TREASURY

Submission for OMB Review; Comment Request

April 27, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 2, 2006 to be assured of consideration.

Internal Revenue Service (IRS)

OMB Number: 1545-1979.

Type of Review: Extension.

Title: Energy Efficient New Home Credit.

Form: IRS 8908.

Description: Contractors will use Form 8908 to claim the new energy efficient home credit for homes substantially completed after August 8, 2005 and sold for use as personal residences after January 1, 2006.

Respondents: Business or other for-profit.

Estimated Total Burden Hours: 512,820 hours.

OMB Number: 1545-1380.

Type of Review: Extension.

Title: (IA-17-90) (Final) Reporting Requirements for Recipients of Points Paid on Residential Mortgages.

Description: To encourage compliance with the tax laws relating to the mortgage interest deduction, the regulations require reporting on form 1098 of points paid on residential mortgages. Only businesses that receive mortgage interest in the course of a trade or business are affected by this reporting requirement.

Respondents: Business or other for-profit.

Estimated Total Burden Hours: 283,056 hours.

OMB Number: 1545-1974.

Type of Review: Extension.

Title: Profit and Loss from Business.

Form: IRS 1040.

Description: Schedule C (Form 1040) is used by individuals to report their business income, loss, and expenses. The data is used to verify that the items reported on the form is correct and also for general statistical use.

Respondents: Business or other for-profit.

Estimated Total Burden Hours: 103,702,448 hours.

OMB Number: 1545-1516.

Type of Review: Revision.

Title: Entity Classification Election.

Form: IRS 8832.

Description: An eligible entity that chooses not to be classified under the default rules or that wishes to change its current classification must file Form 8832 to elect a classification.

Respondents: Business or other for-profit; Farms.

Estimated Total Burden Hours: 23,200 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-6658 Filed 5-2-06; 8:45 am]

BILLING CODE 4830-01-P